NUCLEAR REGULATORY COMMISSION

Advisory Committee on Reactor Safeguards (ACRS) Meeting of the Subcommittee on Advanced Boiling Water Reactor (ABWR)

The ACRS Subcommittee on ABWR will hold a meeting on March 2, 2010, at 11545 Rockville Pike, Rockville, Maryland, Room T2 B3.

The meeting will be open to public attendance, with the exception of a portion that may be closed to protect information that is proprietary to South Texas Project (STP), pursuant to 5 U.S.C. 552b(c)(4).

The agenda for the subject meeting shall be as follows:

March 2, 2010, 8:30 a.m.-5 p.m.

The Subcommittee will review selected chapters (1, 4, 11, 12, 15 and 18) of the Safety Evaluation Report with Open Items associated with the STP Combined License Application. The Subcommittee will gather information, analyze relevant issues and facts, and formulate proposed positions and actions, as appropriate, for deliberation by the Full Committee.

Members of the public desiring to provide oral statements and/or written comments should notify the Designated Federal Official (DFO), Maitri Banerjee (Telephone: 301-415-6973, E-mail: Maitri.Banerjee@nrc.gov) five days prior to the meeting, if possible, so that appropriate arrangements can be made. Thirty-five hard copies of each presentation or handout should be provided to the DFO thirty minutes before the meeting. In addition, one electronic copy of each presentation should be e-mailed to the DFO one day before the meeting. If an electronic copy cannot be provided within this timeframe, presenters should provide the DFO with a CD containing each presentation at least thirty minutes before the meeting. Electronic recordings will be permitted only during those portions of the meeting that are open to the public. Detailed procedures for the conduct of and participation in ACRS meetings were published in the Federal Register on October 14, 2009 (74 FR 58268-58269).

Detailed meeting agendas and meeting transcripts are available on the NRC Web site at http://www.nrc.gov/reading-rm/doc-collections/acrs. Information regarding topics to be discussed, changes to the agenda, whether the meeting has been canceled or rescheduled, and the time allotted to present oral statements can be obtained from the Web site cited above or by contacting the identified DFO. Moreover, in view of the possibility that the schedule for ACRS meetings may be adjusted by the Chairman as necessary to facilitate the conduct of the meeting, persons planning to attend should check with these references if such rescheduling would result in major inconvenience.

Dated: February 12, 2010.
Antonio F. Dias,
Chief Reactor Safety Branch B, Advisory Committee on Reactor Safeguards.

[FR Doc. 2010-3348 Filed 2-19-10; 8:45 am]

BILLING CODE 7590-01-P